DEPARTMENT OF JUSTICE

Executive Office for Immigration Review; Agency Information Collection Activities: Proposed Collection; Comments Requested

ACTION: 30-Day Notice of Information Collection Under Review: Extension of a currently approved Fee Waiver Request.

The Department of Justice (DOJ), Executive Office for Immigration Review (EOIR) has submitted the following information collection request to the Office of Management and Budget (OMB) for review and approval in accordance with the Paperwork Reduction Act of 1995. The proposed information collection is published to obtain comments from the public and affected agencies. This proposed information collection was previously published in the Federal Register Volume 67, Number 71, page 18036 on April 12, 2002, allowing for a 60 day comment period. The purpose of this notice is to allow for an additional 30 days for public comment until September 6, 2002. This process is conducted in accordance with 5 CFR 1320.10.

Written comments and/or suggestions regarding the items contained in this notice, especially the estimated public burden and associated response time, should be directed to The Office of Management and Budget, Office of Information and Regulatory Affairs, Attention Department of Justice Desk Officer, Washington, DC. 20503. Additionally, comments may be submitted to OMB via facsimile to (202) 395-7285.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a Currently Approved Collection.

(2) Title of the Form: Fee Waiver Request.

(3) Agency form number, if any, and the applicable component of the Department of Justice Sponsoring the collection: Form EOIR 26A, Executive Office for Immigration Review, United States Department of Justice.

(4) Affected Public who will be asked to respond, as well as brief abstract: Primary: An alien appealing an Immigration Judge's decision. Other: None Abstract: The information collected on EOIR-26A will be used to determine whether the requisite fee for a motion or appeal will be waived due to an alien's financial situation.

(5) An estimate of the total number of respondents and the amount of time estimated for an average respondent to respond: 1,500 responses are estimated annually with a average of one hour per response.

(6) An estimate of the total public burden (in hours) associated with the collection: 1,500 hours annually.

If additional information is required contact: Mrs. Brenda E. Dyer, Deputy Clearance Officer, United States Department of Justice, Information Management and Security Staff, Justice Management Division, suite 1600, Patrick Henry Building, 601 D Street NW., Washington, DC 20530.

Dated: July 31, 2002.
Brenda E. Dyer,
Department Deputy Clearance Officer, United States Department of Justice.

[FR Doc. 02-19860 Filed 8-6-02; 8:45 am]

BILLING CODE 4410-30-M